DEPARTMENT OF HOMELAND SECURITY

Coast Guard

[USCG-2004-16859]

Chemical Transportation Advisory Committee and Towing Safety Advisory Committee

AGENCY: Coast Guard, DHS.

ACTION: Notice of open teleconference meetings.

SUMMARY: This notice announces a teleconference of the Chemical Transportation Advisory Committee (CTAC) and a teleconference of the Towing Safety Advisory Committee (TSAC). The purpose of these teleconferences is for CTAC and TSAC to review the findings of the joint CTAC/TSAC Working Group on ammonium nitrate and to vote on the proposed final report as recommendations to the Coast Guard.

DATES: The CTAC teleconference will take place on Wednesday, January 28, 2004, from 10 a.m. until 12 a.m. (noon), EST. The TSAC teleconference will take place on Wednesday, January 28, 2004, from 1 p.m. until 3 p.m., EST. These teleconferences may close early if all business is finished. Comments and related material must reach the Coast Guard before the public comment period at the teleconferences.

ADDRESSES: Members of the public may participate in these teleconferences by dialing 1-202-366-3920, pass code: 3199. Public participation is welcomed; however, the number of teleconference lines is limited and available on a first-come, first-served basis. Members of the public may also participate by coming to Room 1303, U.S. Coast Guard Headquarters, 2100 Second Street, SW., Washington, DC 20593-0001. We request that members of the public who plan to attend this meeting notify LT Michael McKean at 202-267-0087 so that he may notify building security officials. Written comments should be sent to CDR Robert J. Hennessy, Executive Director, CTAC, or Mr. Gerald Miante, Assistant Executive Director, TSAC, Commandant (G-MSO), 2100 Second Street, SW., Washington DC 20593-0001 or Fax 202-267-4570. This notice is available on the Internet at http://dms.dot.gov.

FOR FURTHER INFORMATION CONTACT: Executive Director of CTAC, at telephone 202-267-1217, fax 202-267-4570, Assistant Executive Director of TSAC, at telephone 202-267-0221, fax 202-267-4570, or LT Michael McKean at telephone 202-267-0087, fax 202-267-4570.

SUPPLEMENTARY INFORMATION: Notice of this meeting is given under the Federal Advisory Committee Act, 5 U.S.C. App. 2, (Pub. L. 92-463, 86 Stat. 770, as amended).

Agenda of Teleconferences

(1) Introductions and opening remarks.

(2) Discussion of CTAC/TSAC working group findings regarding the potential addition of ammonium nitrate and ammonium nitrate fertilizers that are classified as oxidizers to the Coast Guard Certain Dangerous Cargo (CDC) definition.

(3) Review proposed final report.

(4) Public comment period.

(5) Vote.

(6) Closing remarks.

Procedural

The Chairpersons of CTAC and TSAC shall conduct the teleconferences in a way that will, in their judgment, facilitate the orderly conduct of business. During the teleconferences, the committees welcome public comment. Members of the public will be heard during the public comment period. The committees will make every effort to hear the views of all interested parties. Please note that the teleconferences may close early if all business is finished. Written comments must be submitted before the public comment period at the teleconferences to the Executive Director of CTAC or the Assistant Executive Director of TSAC (see ADDRESSES).

The teleconferences will be recorded and a summary will be available for public review upon request approximately 30 days following the teleconference meetings.

Dated: January 7, 2004.
Joseph J. Angelo,
Director of Standards, Marine Safety, Security, and Environmental Protection.

[FR Doc. 04-635 Filed 1-12-04; 8:45 am]

BILLING CODE 4910-15-P